DEPARTMENT OF TRANSPORTATION

Federal Railroad Administration

[Docket Number FRA-2002-12409]

Petition for Waiver of Compliance

In accordance with Part 211 of Title 49 Code of Federal Regulations (CFR), this document provides the public notice that by a document dated November 30, 2012, Port Authority Trans-Hudson (PATH) has petitioned the Federal Railroad Administration (FRA) for an extension of Waiver Docket Number FRA-2002-12409, which provides relief from certain provisions of 49 CFR part 238—Passenger Equipment Safety Standards. Specifically, PATH requests extension of the waiver of compliance from the requirements of 49 CFR 238.305(c)(10)—Interior calendar day mechanical inspection of passenger cars, 238.305.(d), and 238.317(a)(1)—Movement of passenger equipment with other than power brake defects. These regulations are associated with the interior calendar-day inspection and Class 2 brake test, respectively.

PATH requests relief from the requirement to remove a car from service on the calendar day following the interior calendar-day mechanical inspection, and requests that the car be permitted to remain in passenger service until the car can be brought to the PATH running repair or main repair facility at the earliest practical time, but not to exceed 8 calendar days following notification, providing all of the specific conditions contained in 49 CFR 238.305(c)(10) and 49 CFR 238.305(d)(1)-(d)(3) are met. PATH further requests partial relief from the requirement to perform a Class 2 brake test during specific periods of time at terminal locations in which terminal dwell times are less than 5 minutes. PATH asserts that the conductor does not have adequate time to remain at the rear of the train to perform the brake test while the engineer changes operating position and then walk forward to the conductor's operating position between the first and second cars. FRA assigned the petition Docket Number FRA-2002-12409.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 11, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 20, 2013.
Robert C. Lauby,
Deputy Associate Administrator for Regulatory and Legislative Operations.

[FR Doc. 2013-04286 Filed 2-22-13; 8:45 am]

BILLING CODE 4910-06-P